DEPARTMENT OF COMMERCE

National Institute of Standards and Technology

Postponement of Public Meeting To Gather Information and Data Relating to the World Trade Center Disaster for Building and Fire Safety Purposes

AGENCY: National Institute of Standards and Technology, Commerce.

ACTION: Postponement of public meeting.

SUMMARY: The National Institute of Standards and Technology announces that it is postponing the public meeting to gather information and data relating to the World Trade Center disaster for building and fire safety purposes, previously scheduled for April 22, 2002.

DATES: The meeting previously scheduled for April 22, 2002, from 8 a.m. to 4 p.m. is postponed.

FOR FURTHER INFORMATION CONTACT: Stephen Cauffman, (301) 975-6051 or by e-mail at stephen.cauffman@nist.gov.

SUPPLEMENTARY INFORMATION: On April 8, 2002, the National Institute of Standards and Technology (NIST) announced in the Federal Register (67 FR 16728) a public meeting to gather information and data relating to the World Trade Center disaster for building and fire safety purposes. The meeting was scheduled for April 22, 2002, from 8 aa.m. to 4 p.m. at the New York Marriott Hotel, Financial Center, in New York, NY.

The meeting will be rescheduled after two critical documents are available to potential presenters at the meeting: (1) The upcoming report on the Building Performance Assessment Team (BPAT) study of the disaster conducted by the coalition led by the American Society of Civil Engineers (ASCE) and sponsored by the Federal Emergency Management Agency (FEMA); and (2) the proposed NIST investigation approach, which will be based in part on the BPAT report. The NIST plan will be made available after the BPAT report is released.

The postponement will allow the public a greater opportunity to provide informed comment on the scope of NIST's plan, which will help guide the planned NIST investigation.

Submissions already received by NIST will be given full consideration when the meeting is rescheduled; those submissions may be amended to reflect the additional information that will be made available to the public.

Dated: April 16, 2002.
Karen H. Brown,
Deputy Director.

[FR Doc. 02-9664 Filed 4-18-02; 8:45 am]

BILLING CODE 3510-13-P